DEPARTMENT OF THE INTERIOR

National Park Service

[NPS-PWR-PWRO-14407; PX.P0131800B.00.1]

Final Environmental Impact Statement for the Merced Wild and Scenic River Comprehensive Management Plan, Yosemite National Park, Madera and Mariposa Counties, California

AGENCY: National Park Service, Interior.

ACTION: Notice of availability.

SUMMARY: Pursuant to the National Environmental Policy Act of 1969 (NEPA), and consistent with the National Historic Preservation Act of 1966 (NHPA), the National Park Service (NPS) has prepared the Final Environmental Impact Statement (Final EIS) for the proposed Merced Wild and Scenic River Comprehensive Management Plan (Merced River Plan). The Merced River Plan fulfills the requirements of the Wild and Scenic Rivers Act (Pub. L. 100-149, as amended) and will provide long-term protection of river values and establish a user capacity management program for 81 miles of the Merced River that flow through Yosemite National Park and the El Portal Administrative Site.

DATES: The NPS will execute a Record of Decision not sooner than 30 days after the date the U.S. Environmental Protection Agency publishes its notice of filing of the Final EIS for the Merced River Plan in the Federal Register.

FOR FURTHER INFORMATION CONTACT: Kathleen S. Morse, Planning Chief, Yosemite National Park, P.O. Box 577, Yosemite, CA 95389, (209) 379-1110. Printed documents (quantities limited) or CDs may be requested through email (yose_planning@nps.gov) or by telephone (209) 379-1110. In addition, the Final EIS will be available for public inspection at libraries in local communities. Electronic versions will be available at http://parkplanning.nps.gov/yose_mrp, as well as through the Yosemite National Park Web site at http://www.nps.gov/yose/parkmgmt/mrp.htm.

Background

As defined by the Wild and Scenic Rivers Act (WSRA), the purposes of the Merced River Plan/Final EIS are to protect the Merced River's free-flowing conditions, and to: (1) Review, and if necessary revise, the river corridor boundaries and segment classifications, and provide a process for protection of the river's free-flowing condition in keeping with § 7(a) of the WSRA; (2) Refine descriptions of the river's outstandingly remarkable values (ORVs), which are the unique, rare, or exemplary in a regional or national context, and the river-related/river-dependent characteristics that make the river eligible for inclusion in the national wild and scenic rivers system; (3) Identify management objectives for the river and specific management measures that will be implemented to achieve protection and enhancement of river values; (4) Establish a user capacity program that addresses the kinds and amounts of public use that the river corridor can sustain while protecting and enhancing the river's ORVs; (5) Commit to a program of ongoing studies and monitoring to ensure that the ORVs are protected and enhanced over the life of the plan.

The Merced River Plan/Final EIS has been developed through consultation with traditionally-associated American Indian tribes and groups, the State Historic Preservation Officer, U.S. Fish and Wildlife Service, and other federal and state agencies. Gateway communities, organizations, and interested members of the public have provided more than 30,000 public correspondences (including letters, faxes, emails, comment forms, and public meeting flip-chart notes). The NPS has conducted more than 50 public meetings, presentations, workshops, field visits, and open houses in support of the EIS process. Two preliminary alternatives concepts workbooks were distributed for public review and comment prior to completion of the draft Merced River Plan.

Based on a thorough examination of the river's baseline conditions at the time of designation (1986), a multi-faceted approach to river management and stewardship has been proposed. To address the WSRA mandate to protect and enhance river values, many of the plan's actions would be common to all the action alternatives, including: (1) All WSRA management elements (boundaries, classifications, § 7 determination process); (2) actions to protect and enhance river values (e.g., ecological restoration components); (3) removal and or relocation of numerous facilities and services; (4) actions to improve traffic circulation and reduce congestion; (5) implementation of a monitoring program that sets thresholds for when management actions must be taken to protect river values; and (6) a user capacity management program.

Proposal and Alternatives

In keeping with the expressed purpose and need for federal action, the Merced River Plan/Final EIS evaluates the foreseeable environmental consequences of five action alternatives and a No-Action alternative in accordance with the NEPA, and assesses the potential to cause adverse effects to historic properties in accordance with § 106 of the NHPA. Actions called for in the 1980 Yosemite General Management Plan addressing management within the river corridor would be amended and are outlined in the Merced River Plan/Final EIS. The action alternatives vary primarily in the degree of restoration and the amount of visitor use that could be accommodated by the commensurate level of facilities and services necessary to protect river values.

Alternative 1 (No-Action) would continue current management and trends, including ongoing localized effects associated with impacts to free-flowing condition of the river and connectivity of meadows, development near the river's edge and floodplain, and pedestrian-vehicle conflicts at major intersections. In 2011, the peak daily visitation recorded for East Yosemite Valley was 20,900 people per day.

Alternative 2: Self-Reliant Visitor Experiences and Extensive Floodplain Restoration provides for restoration within the 100-year floodplain, significant reduction in facilities and services, and significantly lower visitor use than current conditions. Given the conditions in this Alternative, visitation to East Yosemite Valley would be approximately 13,900 people per day.

Alternative 3: Dispersed Visitor Experiences and Extensive Riverbank Restoration provides for restoration within 150 feet of the river, marked reduction in visitor facilities and services, and significantly lower visitor use than current conditions. Given the conditions in this Alternative, East Yosemite Valley visitation would be approximately 13,200 people per day.

Alternative 4: Resource-based Visitor Experiences and Targeted Riverbank Restoration provides for targeted restoration within 150 feet of the river, reduced commercial services with a significant increase over current camping opportunities, and slightly lower visitor use levels. Given conditions in this Alternative, East Yosemite Valley visitation would be approximately 17,000 people per day.

Alternative 5 (agency-preferred and environmentally preferred): Enhanced Visitor Experiences and Essential Riverbank Restoration provides for essential restoration within 100 feet of the river, moderately increases current camping opportunities, and accommodates approximately the current level of visitor use. Given the conditions in this Alternative, East Yosemite Valley visitation would be approximately 20,100 people per day. Changes incorporated in this alternative based on public review of the Draft EIS are summarized below.

Alternative 6: Diversified Visitor Experiences and Selective Riverbank Restoration provides for limited restoration within 100 feet of the river, expanded facilities and services with the largest increase over current camping opportunities, and accommodation of some growth in visitor use levels. Given conditions in this Alternative, East Yosemite Valley visitation would be approximately 21,800 people per day.

Changes Incorporated in Final EIS

In response to comments received on the Draft EIS, some modifications have been incorporated into Alternative 5 (key changes are listed below); all other alternatives are substantially unchanged.

• Revised the user capacity and visitor use management program to better articulate how river values, transportation system performance, and management objectives work together to develop and monitor user capacities.

• Increased the number of sites at the Upper and Lower River Campgrounds, and eliminated proposed camping at Eagle Creek. Added campsites to the Abbieville/Trailer Village area and increased the number of spaces at the seasonally-available El Portal Remote Parking Area.

• Retained the Ahwahnee and Yosemite Lodge pools, relocated bike rentals and ice skating facilities outside the river corridor, provided raft rental opportunities, and retained the Housekeeping Camp store.

• Allowed commercial raft rentals in Yosemite Valley and included a boating capacity and additional boating information for each open segment of river.

• Removed the proposed Huff House employee housing and redistributed these units with additional permanent housing at Lost Arrow, retained historic housing in the Curry Village area, and included new units in Rancheria Flat as well as the El Portal Town Center.

• Included additional tour bus parking at the West of Lodge parking area and additional parking spaces in areas such as east of the Yosemite Lodge registration area and the current Curry Village ice-rink location. Relocated parking from West Valley Overflow Parking Area to the El Portal Remote Parking area where shuttle service to Yosemite Valley would be provided. Established a commercial tour bus and transit capacity for Yosemite Valley.

• Further study will assess various long-term management strategies for Sugar Pine Bridge. If mitigation measures fail to meet defined criteria for success, consideration of bridge removal would involve a public review process and additional compliance.

• Clarified changes to Curry Village overnight accommodations to reflect recent changes due to the rockfall hazard zone update.

• A tiered compliance effort will evaluate alternatives to address a grade-separated pedestrian crossing to address traffic congestion at the Yosemite Lodge intersection.

• Expanded the Yosemite Valley Historic Resources ORV to include the entire Yosemite Valley Historic District and clarified specific sites where monitoring will occur to protect and enhance the Recreation ORV.

• Established a grazing capacity at Merced Lake East Meadow and pack stock limit for the Merced Lake High Sierra Camp.

Decision Process

As noted above, not sooner than 30 days after the Environmental Protection Agency notice is published in the Federal Register, the National Park Service will prepare a Record of Decision. Because this is a delegated EIS, the official responsible for approval of the Merced River Plan is the Regional Director, Pacific West Region, National Park Service. Subsequently, the official responsible for implementation of the approved Merced River Plan is the Superintendent, Yosemite National Park.

Dated: November 4, 2013.
Christine S. Lehnertz,
Regional Director, Pacific West Region.

[FR Doc. 2014-04061 Filed 2-25-14; 8:45 am]

BILLING CODE 4312-FF-P